DEPARTMENT OF TRANSPORTATION

Federal Aviation Administration

Notice of Intent To Rule on Request To Release Airport Property at the Eagle County Regional Airport, Eagle, CO

AGENCY: Federal Aviation Administration (FAA), DOT.

ACTION: Notice of Request To Release Airport Property.

SUMMARY: The FAA proposes to rule and invite public comment on the release of land at the Eagle County Regional Airport under the provisions of Section 125 of the Wendell H. Ford Aviation Investment Reform Act for the 21st Century (AIR 21).

DATES: Comments must be received on or before December 22, 2008.

ADDRESSES: Comments on this application may be mailed or delivered to the FAA at the following address: Mr. Craig A. Sparks, Manager, Federal Aviation Administration, Northwest Mountain Region, Airports Division, Denver Airports District Office, 26805 E. 68th Ave., Suite 224, Denver, Colorado 80249.

In addition, one copy of any comments submitted to the FAA must be mailed or delivered to Mr. Bryan R. Treu, Eagle County Attorney, 500 Broadway, P.O. Box 850, Eagle, Colorado, 81631.

FOR FURTHER INFORMATION CONTACT: Mr. Chris Schaffer, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Eagle County Regional Airport under the provisions of the AIR 21.

On September 15, 2008, the FAA determined that the request to release property at the Eagle County Regional Airport submitted by the County of Eagle, Colorado met the procedural requirements of the Federal Aviation Regulations, Part 155. The FAA may approve the request, in whole or in part, no later than November 28, 2007.

The following is a brief overview of the request:

The County of Eagle, Colorado requests the release of 5.46 acres of non-aeronautical airport property, otherwise known as Lot 105 of the Eagle County Regional Airport, to the Colorado Department of Transportation. The purpose of this release is to allow the Colorado Department of Transportation to construct a new highway interchange. The sale of this parcel will provide funds for airport improvements.

Any person may inspect the request by appointment at the FAA office listed above under FOR FURTHER INFORMATION CONTACT.

In addition, any person may, inspect the application, notice and other documents germane to the application in person at the Eagle County Courthouse, 500 Broadway, Eagle, Colorado 81631.

Issued in Denver, Colorado on November 14, 2008.
Craig A. Sparks,
Manager, Denver Airports District Office.

[FR Doc. E8-27537 Filed 11-20-08; 8:45 am]

BILLING CODE 4910-13-M